DEPARTMENT OF JUSTICE

[OMB Number 1140-0058]

Agency Information Collection Activities; Proposed eCollection eComments Requested; Revision of a Previously Approved Collection; Investigator Quality Survey—ATF Form 8620.7

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until October 2, 2023.

FOR FURTHER INFORMATION CONTACT: If you have additional comments especially on the estimated public burden or associated response time, suggestions, or need a copy of the proposed information collection instrument with instructions or additional information, contact: Lakisha Gregory, either by mail at Personnel Security Division, U.S. Department of Justice, PSD—Room 1.E.—300, 99 New York Ave. NE, Washington, DC 20226, by email at Lakisha.Gregory@atf.gov, or telephone at (202) 648-9260.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Persons interviewed by ATF contract investigators as a part of a federal background investigation are randomly selected to voluntarily complete a survey that measures the effectiveness, efficiency, and professionalism of the investigator. Interviewees who provide email addresses during the interviews may be emailed a survey to complete and return to a specific ATF email address. The Information Collection (IC) OMB 1140-0058 is being revised to correct a typographical error in the Interview Ratings section. A question from the survey was also removed, as it is not included in the investigator's current line of questioning.

Overview of This Information Collection

1. Type of Information Collection: Revision of a previously approved collection.

2. The Title of the Form/Collection: Investigator Quality Survey.

3. The agency form number, if any, and the applicable component of the Department sponsoring the collection: Form number: ATF Form 8620.7.

Component: Bureau of Alcohol, Tobacco, Firearms and Explosives, U.S. Department of Justice.

4. Affected public who will be asked or required to respond, as well as the obligation to respond: Individuals or households. The obligation to respond is voluntary.

5. An estimate of the total number of respondents and the amount of time estimated for an average respondent to respond: An estimated 2,500 respondents will complete this form once annually, and it will take each respondent approximately 5 minutes to complete their responses.

6. An estimate of the total annual burden (in hours) associated with the collection: The estimated annual public burden associated with this collection is 208 hours, which is equal to 2,500 (total respondents) * 1 (# of response per respondent) * 0.0832 (5 minutes).

7. An estimate of the total annual cost burden associated with the collection, if applicable: $0. There is no new cost associated with this information collection since all requests will be electronically submitted.

Total Burden Hours
Activity | Number of respondents | Frequency | Total annual responses | Time per response | Total annual burden (hours)
ATF Form 8620.7 | 2,500 | 1/annually | 2,500 | 5 min | 208

If additional information is required contact: Darwin Arceo, Department Clearance Officer, United States Department of Justice, Justice Management Division, Policy and Planning Staff, Two Constitution Square, 145 N Street NE, 4W-218, Washington, DC.

Dated: July 31, 2023.
Darwin Arceo,
Department Clearance Officer for PRA, U.S. Department of Justice.

[FR Doc. 2023-16547 Filed 8-2-23; 8:45 am]

BILLING CODE 4410-14-P